DEPARTMENT OF TRANSPORTATION

Federal Aviation Administration

14 CFR Part 39

[Docket No. 2002-NM-186-AD]

RIN 2120-AA64

Airworthiness Directives; Boeing Model 767-200, -300, and -300F Series Airplanes

AGENCY: Federal Aviation Administration, DOT.

ACTION: Notice of proposed rulemaking (NPRM).

SUMMARY: This document proposes the supersedure of three existing airworthiness directives (AD), applicable to certain Boeing Model 767-200, -300, and -300F series airplanes. One AD currently requires modification of the nacelle strut and wing structure for certain Boeing Model 767-200, -300, and -300F series airplanes powered by Pratt & Whitney engines. The second AD currently requires a similar modification for certain Boeing Model 767-200, -300, and -300F series airplanes powered by General Electric engines. The third AD currently requires repetitive inspections for cracking of the outboard pitch load fittings of the wing front spar, and corrective action if necessary, for certain Boeing Model 767-200 series airplanes. The third AD also provides a terminating action for the repetitive inspections, which is optional for uncracked pitch load fittings. This proposed AD would require, for airplanes subject to the first and second existing ADs on which certain modifications have been accomplished previously, reworking the aft pitch load fitting, and installing a new diagonal brace fuse pin. This proposed AD also would require, for airplanes subject to the third existing AD, replacing the outboard pitch load fitting of the wing front spar with a new, improved fitting, which would terminate certain currently required repetitive inspections. The actions specified by the proposed AD are intended to prevent fatigue cracking in primary strut structure, which could result in separation of the strut and engine from the airplane. This action is intended to address the identified unsafe condition.

DATES: Comments must be received by March 29, 2004.

ADDRESSES: Submit comments in triplicate to the Federal Aviation Administration (FAA), Transport Airplane Directorate, ANM-114, Attention: Rules Docket No. 2002-NM-186-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-186-AD” in the subject line and need not be submitted in triplicate. Comments sent via the Internet as attached electronic files must be formatted in Microsoft Word 97 or 2000 or ASCII text.

The service information referenced in the proposed rule may be obtained from Boeing Commercial Airplane Group, P.O. Box 3707, Seattle, Washington 98124-2207. This information may be examined at the FAA, Transport Airplane Directorate, 1601 Lind Avenue, SW., Renton, Washington.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-186-AD.” The postcard will be date stamped and returned to the commenter.

Availability of NPRMs

Any person may obtain a copy of this NPRM by submitting a request to the FAA, Transport Airplane Directorate, ANM-114, Attention: Rules Docket No. 2002-NM-186-AD, 1601 Lind Avenue, SW., Renton, Washington 98055-4056.

Discussion

On January 17, 2001, the FAA issued AD 2001-02-07, amendment 39-12091 (66 FR 8085, January 29, 2001), applicable to certain Boeing Model 767-200, -300, and -300F series airplanes powered by Pratt & Whitney engines. On March 22, 2001, we issued AD 2001-06-12, amendment 39-12159 (66 FR 17492, April 2, 2001), applicable to certain Boeing Model 767-200, -300, and -300F series airplanes powered by General Electric engines. Those ADs require modification of the nacelle strut and wing structure. Those actions were prompted by the airplane manufacturer's structural reassessment of the damage tolerance capabilities of Boeing Model 767 series airplanes, which indicated that the actual operational loads on the nacelle strut and wing structure are higher than the analytical loads used during the initial design. Service history and analysis subsequent to this reassessment revealed numerous reports of fatigue cracking of the primary structure that occurred prior to the airplane's reaching its design service objective of 20 years or 50,000 total flight cycles. The requirements of those ADs are intended to prevent fatigue cracking in primary strut structure and consequent reduced structural integrity of the strut.

Later, on April 18, 2001, we issued AD 2001-08-23, amendment 39-12200 (66 FR 21069, April 27, 2001), applicable to certain Boeing Model 767-200 series airplanes. That AD requires repetitive inspections for cracking of the outboard pitch load fittings of the wing front spar, and corrective action if necessary. That AD also provides a terminating action for the repetitive inspections, which is optional for uncracked pitch load fittings. That action was prompted by reports that fatigue cracking of the outboard pitch load fittings on the wing front spar had been found on certain Boeing Model 767-200 series airplanes. The requirements of that AD are intended to find and fix cracking of the outboard pitch load fittings of the wing front spar, which could lead to loss of the upper link load path and result in separation of the strut and engine from the airplane.

Actions Since Issuance of Previous Rules

AD 2001-02-07 cites Boeing Service Bulletin 767-54-0080, dated October 7, 1999; and AD 2001-06-12 cites Boeing Service Bulletin 767-54-0081, dated July 29, 1999; as the appropriate sources of service information for the primary actions required by those ADs. Since the issuance of those ADs, we have received reports that certain parts kits supplied by the airplane manufacturer for the modifications specified in those service bulletins contained bushings for the aft pitch load fitting that were too large in the inner diameter. This discrepancy could cause an excessive gap between the diagonal brace fuse pin and the aft pitch load fitting, which could reduce the life of the fuse pin. Failure of the fuse pin, if not corrected, would result in increased loads in the other wing-to-strut joints, which could result in separation of the strut and engine from the airplane.

With regard to AD 2001-08-23, the preamble to that AD explains that we consider the requirements in that AD “interim action” and that we're considering further rulemaking to require replacing the outboard pitch load fitting of the wing front spar with a new, improved fitting. (AD 2001-08-23 provides for that replacement as an optional terminating action for uncracked pitch load fittings, or as a required terminating action for cracked pitch load fittings.) We now have determined that further rulemaking is indeed necessary, and this proposed AD follows from that determination.

Explanation of Relevant Service Information

We have reviewed and approved Boeing Service Bulletin 767-54-0080, Revision 1, dated May 9, 2002; and 767-54-0081, Revision 1, dated February 7, 2002. Those service bulletins describe procedures similar to those in the original issue of the service bulletins, which are referenced in ADs 2001-02-07 and 2001-06-12. However, for both service bulletins, Revision 1 describes additional work that is necessary for airplanes in certain groups. For airplanes in Groups 4 through 10 in Boeing Service Bulletin 767-54-0080, Revision 1; and in Groups 3 through 12 in Boeing Service Bulletin 767-54-0081, Revision 1; on which the actions in the original issue of the service bulletin were accomplished; the additional work includes installing new markers on the diagonal brace of the left-hand and right-hand struts, reworking the aft load pitch fitting, and installing a new diagonal brace fuse pin. For airplanes in Group 1 of those service bulletins, the additional work includes replacing the outboard pitch load fitting of the wing front spar in accordance with Boeing Service Bulletin 767-57A0070 (described below).

We have reviewed and approved Boeing Service Bulletin 767-57A0070, Revision 3, dated November 8, 2001, which is effective for certain Model 767-200 series airplanes. (AD 2001-08-23 refers to Revision 1 of that service bulletin, dated November 16, 2000, as the appropriate source of service information for the actions required by that AD.) Among other actions, Revision 3 of the service bulletin describes procedures for replacing the outboard pitch load fitting of the wing front spar, on the left- and right-hand sides of the airplane, with a new, improved fitting. Procedures for this replacement include doing a high frequency eddy current (HFEC) inspection for damaged fastener holes, oversizing the fastener holes and repeating the HFEC inspections if necessary, installing an improved outboard pitch load fitting, and machining the outboard pitch load fitting. Boeing Service Bulletin 767-57A0070, Revision 3, refers to Boeing Service Bulletin 767-57-0053 as an appropriate source of service information for additional necessary actions. (Paragraph (b) of AD 2001-02-07 requires, among other actions, accomplishment of the actions specified in Boeing Service Bulletin 767-57-0053, Revision 2, dated September 23, 1999.)

We have also reviewed and approved Boeing Service Bulletin 767-29-0057, Revision 1, dated August 14, 2003. (Paragraph (b) of AD 2001-02-07 and paragraph (b) of AD 2001-06-12 refer to the original issue of that service bulletin, dated December 16, 1993; as an acceptable source of service information for certain actions required to be accomplished prior to or concurrently with the modification of the nacelle strut and wing structure required by paragraph (a) of those ADs.) Revision 1 of the service bulletin describes procedures for changing wire bundle routing and improving wire bundle support to ensure that there is sufficient separation between wire bundles and hydraulic tubes in the aft fairing area of the strut. These procedures are essentially the same as those described in the original issue of the service bulletin. Thus, we have revised paragraph (b) (under the heading “Requirements of AD 2001-02-07”) and paragraph (e) (under the heading “Requirements of AD 2001-06-12”) in this proposed AD to refer to Boeing Service Bulletin 767-29-0057, Revision 1, as an acceptable source of service information for the applicable actions required by those paragraphs.

We have also reviewed and approved Boeing Service Bulletin 767-54A0094, Revision 2, dated February 7, 2002. (Paragraph (b) of AD 2001-02-07 and paragraph (b) of AD 2001-06-12 refer to Revision 1 of that service bulletin, dated September 16, 1999; as an acceptable source of service information for certain actions required to be accomplished prior to or concurrently with the modification of the nacelle strut and wing structure required by paragraph (a) of those ADs.) Revision 2 of the service bulletin describes procedures for a detailed visual inspection for cracking of the forward and aft lugs of the diagonal brace, and follow-on actions. There are no substantial differences between the procedures in Revisions 1 and 2 of the service bulletin. Thus, we have revised paragraph (b) (under the heading “Requirements of AD 2001-02-07”) and paragraph (e) (under the heading “Requirements of AD 2001-06-12”) in this proposed AD to refer to Boeing Service Bulletin 767-54A0094, Revision 2, as an acceptable source of service information for the applicable actions required by that paragraph.

Accomplishment of the actions specified in Boeing Service Bulletins 767-54-0080, Revision 1, and 767-57A0070, Revision 3, along with the other service bulletins specified in AD 2001-02-07, is intended to adequately address the identified unsafe condition.

Explanation of Requirements of Proposed Rule

Since an unsafe condition has been identified that is likely to exist or develop on other products of this same type design, the proposed AD would supersede ADs 2001-02-07 and 2001-06-12 to continue to require modification of the nacelle strut and wing structure. For certain airplanes on which certain modifications have been accomplished previously, the proposed AD would require reworking the aft load pitch fitting, and installing a new diagonal brace fuse pin. The proposed AD also would supersede AD 2001-08-23 to continue to require repetitive inspections for cracking of the outboard pitch load fittings of the wing front spar, and corrective action if necessary. For certain airplanes, the proposed AD would require replacing the outboard pitch load fitting of the wing front spar with a new, improved fitting on the left- and right-hand sides of the airplane, which would terminate the repetitive inspections required by AD 2001-08-23. Except as discussed below under the heading “Differences Between Proposed AD and Service Bulletins,” the actions would be required to be accomplished in accordance with the service bulletins described previously in this proposed AD, as well as other service bulletins that were referenced in ADs 2001-02-07 and 2001-06-12.

Differences Between Proposed AD and Service Bulletins

Although the Accomplishment Instructions of Revision 1 of Boeing Service Bulletins 767-54-0080 and 767-54-0081 specify installing new markers on the diagonal brace of the left-hand and right-hand struts, the proposed AD would not require such installation. We find that not installing such markers will not affect safety of flight for the affected airplane fleet.

Paragraphs (k) and (l) of this proposed AD specify an inspection to determine the part number of the aft pitch load fitting. While Revision 1 of Boeing Service Bulletins 767-54-0080 and 767-54-0081 state that rework of the aft pitch load fitting is not necessary if an aft pitch load fitting was reworked previously, those service bulletins do not provide for determining the part number of the aft pitch load fitting. We find that an inspection is the best method for operators to use to determine the part number of the aft load pitch fitting.

Explanation of Changes to Existing Requirements

For clarification, we have revised all references to “Boeing Model 767 series airplanes” from ADs 2001-02-07 and 2001-06-12 to refer more specifically to Boeing Model 767-200, -300, and -300F series airplanes. Boeing Model 767-400ER series airplanes are not subject to these ADs.

For clarity, we have revised paragraph (b) of this proposed AD, under the heading “Requirements of AD 2001-02-07,” to remove a reference to page 8 of Boeing Service Bulletin 767-54-0080. Similarly, we have revised paragraphs (d)(1) and (e) of this proposed AD, under the heading “Requirements of AD 2001-06-12,” to remove references to pages 8 and 54 of Boeing Service Bulletin 767-54-0081.

Paragraph (b) of AD 2001-02-07 states that accomplishment of that paragraph constitutes terminating action for AD 99-07-06, amendment 39-11091 (64 FR 14578, March 26, 1999). AD 99-07-06 has been superseded by AD 2000-07-05, amendment 39-11659 (65 FR 18883, April 10, 2000). Therefore, we have revised paragraph (b) of this proposed AD to refer to AD 2000-07-05 instead of AD 99-07-06.

Similarly, we have revised paragraph (b) of this proposed AD to note that accomplishment of that paragraph constitutes terminating action for AD 2000-12-17, amendment 39-11795 (65 FR 37843, June 19, 2000). AD 2000-12-17 requires accomplishment of the actions specified in Boeing Service Bulletin 767-57-0053, Revision 2, and paragraph (g) of that AD states that modification of the nacelle strut and wing structure in accordance with Boeing Service Bulletin 767-54-0080 constitutes terminating action for the actions required by AD 2000-12-17. A reference to AD 2000-12-17 would have been appropriate in AD 2001-02-07 but was inadvertently omitted.

Also, we have revised the cost impact estimate in this proposed AD for the actions specified in Boeing Service Bulletin 767-54-0080 and 767-54-0081. These changes are due in part to increases in the work hour estimates in that service bulletin. For the actions in Boeing Service Bulletin 767-54-0080, the revision of the cost impact estimate is due to our determination that, in this case, it is appropriate to include time for gaining access and closing up in the cost impact estimate. While cost impact figures in AD actions typically do not include incidental costs such as the time required to gain access and close up, we find that certain actions associated with gaining access to perform the actions that would be required by this proposed AD (e.g., removing engines, draining fuel) would not ordinarily be accomplished if this proposed AD were not adopted. (AD 2001-06-12 already includes time for gaining access and closing up in the cost impact estimate for the actions associated with Boeing Service Bulletin 767-54-0081.)

Cost Impact

There are approximately 619 airplanes of the affected design in the worldwide fleet. The FAA estimates that 255 airplanes of U.S. registry would be affected by this proposed AD.

The following table shows the estimated costs associated with the actions currently required by ADs 2001-02-07, 2001-06-12, and 2001-08-23, at an average labor rate of $65 per work hour:

Estimated Cost Impact—Actions Currently Required
Actions in Boeing Service Bulletin— | Number of affected U.S.- registered airplanes | Work hours | Parts cost | Cost per airplane | Fleet cost
767-54-0080 | 86 | ¹ 1,423-1,519 | Free | $92,495-98,735 | $7,954,570-8,491,210
767-54-0081 | 169 | ¹ 1,474 | Free | 95,810 | 16,191,890
767-54-0069 | 249 | 106 | Free | 6,890 | 1,715,610
767-54-0083 | 228 | 1 | Free | 65 | 14,820
767-54-0088 | 255 | 2 | Free | 130 | 33,150
767-54A0094 | 117 | 20 | Free | 1,300 | 152,100
767-57-0053 | 255 | 5 | None | 325 | 82,875
767-29-0057 | 200 | 16 | Free | 1,040 | 208,000
767-57A0070 | 67 | 4 | None | ² 260 | ² 17,420
¹ Including time for gaining access and closing up.
² Per inspection cycle.

For affected airplanes, the new inspection to determine the part number of the aft load pitch fittings that is proposed in this AD action would take approximately 1 work hour per airplane to accomplish, at an average labor rate of $65 per work hour. Based on these figures, the cost impact of this proposed requirement is estimated to be $65 per airplane.

For affected airplanes, the new replacement of the outboard pitch load fittings that is proposed in this AD action would take approximately 14 work hours per airplane to accomplish, at an average labor rate of $65 per work hour. Required parts would cost approximately $14,438 per airplane. Based on these figures, the cost impact of this proposed requirement is estimated to be $15,348 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions; however, as explained previously, time to gain access and close up has been included for certain actions in this proposed AD.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendments 39-12091 (66 FR 8085, January 29, 2001), 39-12159 (66 FR 17492, April 2, 2001), and 39-12200 (66 FR 21069, April 27, 2001); and by adding a new airworthiness directive (AD), to read as follows:

Boeing: Docket 2002-NM-186-AD. Supersedes AD 2001-02-07, amendment 39-12091; AD 2001-06-12, amendment 39-12159; and AD 2001-08-23, amendment 39-12200.

Applicability: Model 767-200, -300, and -300F series airplanes; certificated in any category; line numbers (L/Ns) 1 through 663 inclusive; powered by Pratt & Whitney or General Electric engines.

Compliance: Required as indicated, unless accomplished previously.

To prevent fatigue cracking in primary strut structure, which could result in separation of the strut and engine from the airplane, accomplish the following:

Requirements of AD 2001-02-07

Modifications

(a) For Model 767-200, -300, and -300F series airplanes powered by Pratt & Whitney engines, L/Ns 1 through 663 inclusive: When the airplane has reached the flight cycle threshold as defined by the flight cycle threshold formula described in Figure 1 of Boeing Service Bulletin 767-54-0080, dated October 7, 1999, or Revision 1, dated May 9, 2002; or within 20 years since the date of manufacture; whichever occurs first; modify the nacelle strut and wing structure on both the left-hand and right-hand sides of the airplane, in accordance with the service bulletin. Use of the flight cycle threshold formula described in Figure 1 of the service bulletin is an acceptable alternative to the 20-year threshold, provided the corrosion prevention and control program inspections, as described in paragraphs 1 and 2 of Figure 1, have been met. As of the effective date of this AD, only Revision 1 of the service bulletin may be used.

(b) For Model 767-200, -300, and -300F series airplanes powered by Pratt & Whitney engines, L/Ns 1 through 663 inclusive: Prior to or concurrently with the accomplishment of the modification of the nacelle strut and wing structure required by paragraph (a) of this AD; as specified in paragraph 1.D., Table 2, of Boeing Service Bulletin 767-54-0080, dated October 7, 1999, or Revision 1, dated May 9, 2002; accomplish the actions specified in Boeing Service Bulletins 767-54-0069, Revision 1, dated January 29, 1998, or Revision 2, dated August 31, 2000; 767-54-0083, dated September 17, 1998; 767-54-0088, Revision 1, dated July 29, 1999; 767-54A0094, Revision 1, dated September 16, 1999, or Revision 2, dated February 7, 2002; 767-57-0053, Revision 2, dated September 23, 1999; and 767-29-0057, dated December 16, 1993, including Notice of Status Change NSC 1, dated November 23, 1994, or Revision 1, dated August 14, 2003; as applicable; in accordance with those service bulletins. Accomplishment of this paragraph constitutes terminating action for the repetitive inspections required by AD 94-11-02, amendment 39-8918; AD 2000-07-05, amendment 39-11659; and AD 2000-12-17, amendment 39-11795.

Note 1: Paragraph (b) of this AD specifies prior or concurrent accomplishment of Boeing Service Bulletin 767-57-0053, Revision 2, dated September 23, 1999; however, Table 2 of Boeing Service Bulletin 767-54-0080, dated October 7, 1999, specifies prior or concurrent accomplishment of the original issue of the service bulletin. Therefore, accomplishment of the applicable actions specified in Boeing Service Bulletin 767-57-0053, dated June 27, 1996, or Revision 1, dated October 31, 1996, prior to the effective date of this AD, is considered acceptable for compliance with the actions in Boeing Service Bulletin 767-57-0053 required by paragraph (b) of this AD.

Repair

(c) For Model 767-200, -300, and -300F series airplanes powered by Pratt & Whitney engines, L/Ns 1 through 663 inclusive: If any damage (corrosion or cracking) to the airplane structure is found during the accomplishment of the modification required by paragraph (a) of this AD; and the service bulletin specifies to contact Boeing for appropriate action: Prior to further flight, repair in accordance with a method approved by the Manager, Seattle Aircraft Certification Office (ACO), FAA; or in accordance with data meeting the type certification basis of the airplane approved by a Boeing Company Designated Engineering Representative (DER) who has been authorized by the FAA to make such findings. For a repair method to be approved by the Manager, Seattle ACO, as required by this paragraph, the Manager's approval letter must specifically reference this AD.

Requirements of AD 2001-06-12

Modification

(d) For Model 767-200, -300, and -300F series airplanes powered by General Electric engines, L/Ns 1 through 663 inclusive: Modify the nacelle strut and wing structure on both the left-hand and right-hand sides of the airplane, in accordance with Boeing Service Bulletin 767-54-0081, dated July 29, 1999; or Revision 1, dated February 7, 2002; at the later of the times specified in paragraphs (d)(1) and (d)(2) of this AD. After the effective date of this AD, only Revision 1 may be used.

(1) Prior to the accumulation of 37,500 total flight cycles, or within 20 years since date of manufacture, whichever occurs first. Use of the optional threshold formula described in Figure 1 of the service bulletin is an acceptable alternative to the 20-year threshold provided that the conditions specified in Figure 1 of the service bulletin are met. For the optional threshold formula in Figure 1 to be used, actions in the service bulletins listed in Item 2 of Figure 1 must be accomplished no later than 20 years since the airplane's date of manufacture.

(2) Within 3,000 flight cycles after May 7, 2001 (the effective date of AD 2001-06-12).

(e) For Model 767-200, -300, and -300F series airplanes powered by General Electric engines, L/Ns 1 through 663 inclusive: Prior to or concurrently with the accomplishment of the modification of the nacelle strut and wing structure required by paragraph (d) of this AD; as specified in paragraph 1.D., Table 2, “Prior or Concurrent Service Bulletins,” of Boeing Service Bulletin 767-54-0081, dated July 29, 1999; or Revision 1, dated February 7, 2002; accomplish the actions specified in Boeing Service Bulletin 767-29-0057, dated December 16, 1993, or Revision 1, dated August 14, 2003; Boeing Service Bulletin 767-54-0069, Revision 1, dated January 29, 1998, or Revision 2, dated August 31, 2000; Boeing Service Bulletin 767-54-0083, dated September 17, 1998; Boeing Service Bulletin 767-54-0088, Revision 1, dated July 29, 1999; Boeing Service Bulletin 767-54A0094, Revision 1, dated September 16, 1999, or Revision 2, dated February 7, 2002; and Boeing Service Bulletin 767-57-0053, Revision 2, dated September 23, 1999; as applicable, in accordance with those service bulletins.

Note 2: AD 2000-12-17, amendment 39-11795, requires accomplishment of Boeing Service Bulletin 767-57-0053, Revision 2, dated September 23, 1999. However, inspections and rework accomplished in accordance with Boeing Service Bulletin 767-57-0053, Revision 1, dated October 31, 1996, are acceptable for compliance with the applicable actions required by paragraph (e) of this AD.

Note 3: AD 2000-07-05, amendment 39-11659, requires accomplishment of Boeing Service Bulletin 767-54A0094, dated May 22, 1998. Inspections and rework accomplished in accordance with Boeing Service Bulletin 767-54A0094, dated May 22, 1998, are acceptable for compliance with the applicable actions required by paragraph (e) of this AD.

Note 4: AD 2001-02-07, amendment 39-12091, requires accomplishment of Boeing Service Bulletin 767-54-0069, Revision 1, dated January 29, 1998, or Revision 2, dated August 31, 2000. Inspections and rework accomplished in accordance with those service bulletins are acceptable for compliance with the applicable actions required by paragraph (e) of this AD.

Repairs

(f) For Model 767-200, -300, and -300F series airplanes powered by General Electric engines, L/Ns 1 through 663 inclusive: If any damage to the airplane structure is found during the accomplishment of the modification required by paragraph (d) of this AD, and the service bulletin specifies to contact Boeing for appropriate action, prior to further flight, repair in accordance with a method approved by the Manager, Seattle ACO, or a Boeing Company DER who has been authorized by the FAA to make such findings. For a repair method to be approved by the Manager, Seattle ACO, as required by this paragraph, the Manager's approval letter must specifically reference this AD.

Requirements OF AD 2001-08-23

Initial and Repetitive Inspections

(g) For Model 767-200 series airplanes, as listed in Boeing Service Bulletin 767-57A0070, Revision 1, dated November 16, 2000: Within 30 days after May 14, 2001 (the effective date of AD 2001-08-23, amendment 39-12200), perform a high frequency eddy current (HFEC) inspection for cracking of the outboard pitch load fitting of the wing front spar, on the left-hand and right-hand sides of the airplane, according to Boeing Service Bulletin 767-57A0070, Revision 1, dated November 16, 2000; Revision 2, dated August 2, 2001; or Revision 3, dated November 8, 2001. If no cracking is found, repeat the inspection at intervals not to exceed 3,000 flight cycles or 18 months, whichever occurs first, until paragraph (i) or (m) of this AD is done.

Note 5: Inspections done prior to the effective date of this AD, in accordance with Boeing Service Bulletin 767-57A0070, dated March 2, 2000, as revised by Information Notice 767-57A0070 IN 01, dated March 23, 2000, are considered acceptable for compliance with paragraph (g) of this AD.

Corrective Action

(h) For Model 767-200 series airplanes, as listed in Boeing Service Bulletin 767-57A0070, Revision 1, dated November 16, 2000: If any cracking is found during any inspection per paragraph (g) of this AD, prior to further flight, do paragraph (h)(1) or (h)(2) of this AD.

(1) Rework the cracked outboard pitch load fitting according to a method approved by the Manager, Seattle ACO, or according to data meeting the type certification basis of the airplane approved by a Boeing Company DER who has been authorized by the Manager, Seattle ACO, to make such findings. For a rework method to be approved by the Manager, Seattle ACO, as required by this paragraph, the Manager's approval letter must specifically reference this AD.

(2) Replace the cracked outboard pitch load fitting with a new, improved fitting (including removing the existing fittings, performing an HFEC inspection for damage of fastener holes, repairing damaged fastener holes—if necessary, and installing new fittings of improved design), according to Boeing Service Bulletin 767-57A0070, Revision 1, dated November 16, 2000; Revision 2, dated August 2, 2001; or Revision 3, dated November 8, 2001. Such replacement terminates the repetitive inspections required by paragraph (g) of this AD for the replaced fitting.

Note 6: Boeing Service Bulletin 767-57A0070, Revision 1, refers to Boeing Service Bulletin 767-57-0053 as an additional source of service information for accomplishment of the replacement of the outboard pitch load fitting on Model 767-200 series airplanes.

Optional Terminating Action

(i) For Model 767-200 series airplanes, as listed in Boeing Service Bulletin 767-57A0070, Revision 1, dated November 16, 2000: Replacement of the outboard pitch load fitting of the wing front spar with a new, improved fitting, according to Boeing Service Bulletin 767-57A0070, Revision 1, dated November 16, 2000; Revision 2, dated August 2, 2001; or Revision 3, dated November 8, 2001; terminates the repetitive inspections required by paragraph (g) of this AD for the replaced fitting.

Spares

(j) For Model 767-200 series airplanes, as listed in Boeing Service Bulletin 767-57A0070, Revision 1, dated November 16, 2000: As of May 14, 2001, no one may install on any airplane an outboard pitch load fitting that has a part number listed in the “Existing Part Number” column of Paragraph 2.E. of Boeing Service Bulletin 767-57A0070, Revision 1, dated November 16, 2000.

New Requirements of This AD

Boeing Service Bulletin 767-54-0080, Revision 1, Groups 4 through 10: Inspection and Additional Work, if Necessary

(k) For airplanes listed in Groups 4 through 10 of Boeing Service Bulletin 767-54-0080, Revision 1, dated May 9, 2002, on which the modification required by paragraph (a) of this AD has been accomplished prior to the effective date of this AD: Within 18 months after the effective date of this AD, perform an inspection of the aft pitch load fitting of the wing front spar to determine the part number (P/N) of the fitting.

(1) If the aft pitch load fitting on the left-hand side of the airplane has P/N 112T7005-57 and the aft pitch load fitting on the right-hand side of the airplane has P/N 112T7005-58: No further action is required by this paragraph.

(2) If the aft pitch load fitting on the left-hand side of the airplane has P/N 112T7005-53 or the aft pitch load fitting on the right-hand side of the airplane has P/N 112T7005-54: Within 18 months after the effective date of this AD, rework the affected aft pitch load fitting and install the diagonal brace with a new fuse pin, in accordance with Steps E. and F. under the heading “Additional Work Required—Group 4 through 10 Airplanes” in the Accomplishment Instructions of the service bulletin.

Note 7: This AD does not require the installation of new markers that is specified under the heading “Additional Work Required—Group 4 through 10 Airplanes” in the Accomplishment Instructions of Boeing Service Bulletin 767-54-0080, Revision 1, dated May 9, 2002.

Boeing Service Bulletin 767-54-0081, Revision 1, Groups 3 Through 12: Inspection and Additional Work, if Necessary

(l) For airplanes listed in Groups 3 through 12 of Boeing Service Bulletin 767-54-0081, Revision 1, dated February 7, 2002, on which the modification required by paragraph (d) of this AD has been accomplished prior to the effective date of this AD: Within 18 months after the effective date of this AD, perform an inspection of the aft pitch load fitting of the wing front spar to determine the P/N of the fitting.

(1) If the aft pitch load fitting on the left-hand side of the airplane has P/N 112T7005-57 and the aft pitch load fitting on the right-hand side of the airplane has P/N 112T7005-58: No further action is required by this paragraph.

(2) If the aft pitch load fitting on the left-hand side of the airplane has P/N 112T7005-53 or the aft pitch load fitting on the right-hand side of the airplane has P/N 112T7005-54: Within 18 months after the effective date of this AD, rework the affected aft pitch load fitting and install the diagonal brace with a new fuse pin, in accordance with Steps CB. and CC. under the heading “Additional Work Required—Group 3 through 12 Airplanes” in the Accomplishment Instructions of the service bulletin.

Note 8: This AD does not require the installation of new markers that is specified under the heading “Additional Work Required—Group 3 through 12 Airplanes” in the Accomplishment Instructions of Boeing Service Bulletin 767-54-0081, Revision 1, dated February 7, 2002.

L/Ns 1—101 Inclusive: Replacement of Outboard Pitch Load Fitting

(m) For Model 767-200 series airplanes having L/Ns 1 through 101 inclusive: At the applicable time specified in paragraph (m)(1) or (m)(2) of this AD, replace the outboard pitch load fitting of the wing front spar, on the left- and right-hand sides of the airplane, with a new, improved fitting, in accordance with the Accomplishment Instructions of Boeing Service Bulletin 767-57A0070, Revision 1, dated November 16, 2000; Revision 2, dated August 2, 2001; or Revision 3, dated November 8, 2001. Accomplishment of this replacement constitutes terminating action for the repetitive inspections required by paragraph (g) of this AD.

(1) For airplanes on which the modification required by paragraph (a) or (d) of this AD, as applicable, has not been accomplished before the effective date of this AD: Do the replacement prior to or concurrently with the accomplishment of the modification of the nacelle strut and wing structure required by paragraph (a) of this AD, as specified in paragraph 1.D., Table 2, of Boeing Service Bulletin 767-54-0080, Revision 1, dated May 9, 2002.

(2) For airplanes on which the modification required by paragraph (a) or (d) of this AD, as applicable, has been accomplished before the effective date of this AD: Do the replacement within 48 months after the effective date of this AD.

Alternative Methods of Compliance

(n)(1) In accordance with 14 CFR 39.19, the Manager, Seattle ACO, is authorized to approve alternative methods of compliance (AMOCs) for this AD.

(2) An AMOC that provides an acceptable level of safety may be used for a repair required by this AD, if it is approved by a Boeing Company Designated Engineering Representative who has been authorized by the Manager, Seattle ACO, to make such findings.

(3) AMOCs approved previously per AD 2001-02-07, amendment 39-12091, are approved as alternative methods of compliance with the applicable actions in paragraphs (a), (b), and (c) of this AD.

(4) AMOCs approved previously per AD 2001-06-12, amendment 39-12159, are approved as alternative methods of compliance with the applicable actions in paragraphs (d), (e), and (f) of this AD.

(5) AMOCs approved previously in accordance with AD 2000-12-17, amendment 39-11795; AD 2000-07-05, amendment 39-11659; AD 2001-02-07, amendment 39-12091; and AD 94-11-02, amendment 39-8918; are approved as alternative methods of compliance with the applicable actions in paragraph (e) of this AD.

(6) AMOCs approved previously per AD 2001-08-23, amendment 39-12200, are approved as alternative methods of compliance with the applicable actions in paragraphs (g), (h), and (i) of this AD.

Issued in Renton, Washington, on February 2, 2004.
Ali Bahrami,
Acting Manager, Transport Airplane Directorate, Aircraft Certification Service.

[FR Doc. 04-2959 Filed 2-10-04; 8:45 am]

BILLING CODE 4910-13-P